DEPARTMENT OF ENERGY

Federal Energy Regulatory Commission

Combined Notice of Filings #1

Take notice that the Commission received the following electric rate filings:

Docket Numbers: ER10-3297-004.

Applicants: Powerex Corp.

Description: Notice of Non-Material Change in Status of Powerex Corp.

Filed Date: 5/29/14.

Accession Number: 20140529-5099.

Comments Due: 5 p.m. ET 6/19/14.

Docket Numbers: ER14-1651-001.

Applicants: Public Service Company of New Hampshire.

Description: Errata Rate Schedule No. 104 Wholesale Distribution Service Central Maine Power to be effective 6/1/2014.

Filed Date: 5/28/14.

Accession Number: 20140528-5177.

Comments Due: 5 p.m. ET 6/18/14.

Docket Numbers: ER14-2053-000.

Applicants: Interstate Power and Light Company.

Description: IPL Changes in Depreciation Rates for Wholesale Production Service to be effective 7/1/2014.

Filed Date: 5/28/14.

Accession Number: 20140528-5184.

Comments Due: 5 p.m. ET 6/18/14.

Docket Numbers: ER14-2054-000.

Applicants: Southern California Edison Company.

Description: GIA & Distribution Service Agmt with Adelanto Solar II, LLC to be effective 5/30/2014.

Filed Date: 5/29/14.

Accession Number: 20140529-5000.

Comments Due: 5 p.m. ET 6/19/14.

Docket Numbers: ER14-2055-000.

Applicants: Southern California Edison Company.

Description: GIA & Distribution Service Agmt with SunEdison Utility Solutions, LLC to be effective 5/30/2014.

Filed Date: 5/29/14.

Accession Number: 20140529-5002.

Comments Due: 5 p.m. ET 6/19/14.

Docket Numbers: ER14-2056-000.

Applicants: Erie Power, LLC.

Description: Request of Erie Power, LLC for Limited Tariff Waiver, Expedited Consideration and Commission Action.

Filed Date: 5/28/14.

Accession Number: 20140528-5210.

Comments Due: 5 p.m. ET 6/18/14.

Docket Numbers: ER14-2058-000.

Applicants: PacifiCorp.

Description: OATT Revised Schedules 3 & 3A Order 784-A Clarification to be effective 8/1/2014.

Filed Date: 5/29/14.

Accession Number: 20140529-5158.

Comments Due: 5 p.m. ET 6/19/14.

Docket Numbers: ER14-2059-000.

Applicants: Midcontinent Independent System Operator, Inc.

Description: 2014-05-29_MISO-SPP JOA Sec 3.3 Att 3 Amendment to be effective 5/30/2014.

Filed Date: 5/29/14.

Accession Number: 20140529-5175.

Comments Due: 5 p.m. ET 6/19/14.

Docket Numbers: ER14-2060-000.

Applicants: Broken Bow Wind, LLC.

Description: Common Facilities Agreement to be effective 7/28/2014.

Filed Date: 5/29/14.

Accession Number: 20140529-5176.

Comments Due: 5 p.m. ET 6/19/14.

Docket Numbers: ER14-2061-000.

Applicants: Ameren Illinois Company.

Description: Sectionalizing Switch Replacement Letter Agreement with NEC to be effective 5/20/2014.

Filed Date: 5/29/14.

Accession Number: 20140529-5211.

Comments Due: 5 p.m. ET 6/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2014.
Nathaniel J. Davis, Sr.,
Deputy Secretary.

[FR Doc. 2014-13289 Filed 6-6-14; 8:45 am]

BILLING CODE 6717-01-P